ENVIRONMENTAL PROTECTION AGENCY

40 CFR Parts 60, 61, and 63

[EPA-HQ-OAR-2009-0174; FRL-8980-8]

RIN 2060-AP63

Emissions Factors Program Improvements

AGENCY: Environmental Protection Agency (EPA).

ACTION: Advanced notice of proposed rulemaking (ANPRM); extension of public comment period.

SUMMARY: On October 14, 2009, EPA published an Emissions Factors Program Improvements ANPRM to convey issues raised by stakeholders about the program, inform the public of our initial ideas to address these issues, and solicit comments on our current thinking to resolve these issues. EPA has received several requests from stakeholders to grant additional time to provide comments on the ANPRM. Given that EPA published the ANPRM specifically to obtain public comments on the emissions factors program and the potential improvements to the program, EPA finds this request to be reasonable. Thus, the comment period is being extended 30 additional days to December 14, 2009.

DATES: Comments must now be received on or before December 14, 2009.

ADDRESSES: Submit your comments, identified by Docket ID No. EPA-HQ- OAR-2009-0174, by one of the following methods:

• http://www.regulations.gov: Follow the on-line instructions for submitting comments.

• E-mail: a-and-r-docket@epa.gov.

• Fax: (202) 566-9744.

• Mail: U.S. Postal Service, send comments to: EPA Docket Center (2822T), Emissions Factors Program Improvements Advanced Notice of Proposed Rulemaking Docket, Docket ID No. EPA-HQ-OAR-2009-0174, 1200 Pennsylvania Ave., NW., Washington, DC 20460. Please include a total of two copies.

• Hand Delivery: In person or by courier, deliver comments to: EPA Docket Center (2822T), Emissions Factors Program Improvements Advanced Notice of Proposed Rulemaking Docket, Docket ID No. EPA-HQ-OAR-2009-0174, EPA West, Room 3334, 1301 Constitution Avenue, NW., Washington, DC 20004. Such deliveries are only accepted during the Docket's normal hours of operation, and special arrangements should be made for deliveries of boxed information. Please include a total of two copies.

Instructions: Direct your comments to Docket ID No. EPA-HQ-OAR-2009-0174. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the EPA Docket Center, EPA West, Room 3334, 1301 Constitution Ave., NW., Washington, DC. The Public Reading Room is open from 8:30 a.m. to 4:30 p.m., Monday through Friday, excluding legal holidays. The telephone number for the Public Reading Room is (202) 566-1744, and the telephone number for the Docket Center is (202) 566-1742.

FOR FURTHER INFORMATION CONTACT: Questions concerning the ANPRM should be addressed to Mr. Thomas Driscoll, Office of Air Quality Planning and Standards, Sector Policies and Programs Division, Measurement Policy Group (D243-05), U.S. Environmental Protection Agency, Research Triangle Park, NC 27711, telephone number: (919) 541-5135; fax number: (919) 541-1039; e-mail address: driscoll.tom@epa.gov.

How can I get copies of the ANPRM and other related information?

The Emissions Factors Program Improvements ANPRM was published on October 14, 2009 (74 FR 52723). You can access this document at http://www.regulations.gov/search/Regs/home.html#documentDetail?R=0900006480a417c0. In addition, for documents related to this rulemaking, EPA has established the official public docket for the ANPRM under Docket ID No. EPA-HQ-OAR-2009-0174. Information on how to access the docket is presented above in the ADDRESSES section.

Dated: November 6, 2009.
Gina McCarthy,
Assistant Administrator for Air and Radiation.

[FR Doc. E9-27302 Filed 11-12-09; 8:45 am]

BILLING CODE 6560-50-P